DEPARTMENT OF ENERGY

Federal Energy Regulatory Commission

[Docket No. RP01-419-000]

TransColorado Gas Transmission Company, Notice of Tariff Filing

May 18, 2001.

Take notice that on May 15, 2001, TransColorado Gas Transmission Company (TransColorado) tendered for filing as part of its FERC Gas Tariff, Original Volume No. 1, the following tariff sheets, to be effective June 18, 2001:

Fifth Revised Sheet No. 200

Fourth Revised Sheet No. 201

Second Revised Sheet No. 203A

Third Revised Sheet No. 204

Sixth Revised Sheet No. 205

Fifth Revised Sheet No. 206

Third Revised Sheet No. 206A

Second Revised Sheet No. 206B and 206C

Third Revised Sheet No. 207 to 210

Fourth Revised Sheet No. 215 and 217

Third Revised Sheet No. 219

Fourth Revised Sheet No. 221

Fifth Revised Sheet No. 222

Third Revised Sheet No. 223 and 227

Second Revised Sheet No. 227D and 227E

Third Revised Sheet No. 228

Fourth Revised Sheet No. 230 and 232

Second Revised Sheet No. 233A

Third Revised Sheet No. 235 and 246

Seventh Revised Sheet No. 247

Fifth Revised Sheet No. 264

TransColorado stated that this filing is being made to change TransColorado's references to its web site services to a more standardized name, rather than the proprietary system entitled the Direct Access Request and Tracking System (DART). References to the DART system has been superseded by TransColorado's Interactive Website, pursuant to the Commission's Order Nos. 587-G and 587-I. The currently required format for such internet web sites was largely defined by GISB Version 1.4, which the Commission adopted in Order No. 587-M, effectively May 1, 2001.

TransColorado states that a copy of this filing has been served upon TransColorado's customers, the Colorado Public Utilities Commission and New Mexico Public Utilities Commission.

Any person desiring to be heard or to protest said filing should file a motion to intervene or a protest with the Federal Energy Regulatory Commission, 888 First Street, N.E., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 185.2001(a)(1)(iii) and the instructions on the Commission's web site at http://www.ferc.fed.us/efi/doorbell.htm.

Linwood A. Watson, Jr.,
Acting Secretary.

[FR Doc. 01-13088 Filed 5-23-01; 8:45 am]

BILLING CODE 6717-01-M